DEPARTMENT OF STATE

[Public Notice 5375]

U.S. National Commission for UNESCO Notice of Open Teleconference Meeting

The U.S. National Commission for UNESCO will meet via telephone conference on Thursday, April 27, 2006, from 10 a.m. until 11 a.m. eastern time.

The purpose of the teleconference meeting is to consider the recommendations of the Commission's Subcommittee on the UNITWIN/UNESCO Chairs Programme. The Subcommittee was asked to review U.S. applications for the Chairs program, which seeks to foster cooperation between universities in different countries and to promote academic solidarity and the transfer of knowledge. The Commission may also discuss the Library of Congress's World Digital Library initiative. More information on the National Commission can be found at http://www.state.gov/p/io/unesco.

The Commission will accept brief oral comments during a portion of this conference call. Members of the public who wish to present oral comments or to listen to the conference call must make arrangements with the Executive Secretariat of the National Commission by 12 p.m. on April 26, 2006.

For more information or to arrange to participate in the teleconference meeting, contact Alex Zemek, Deputy Executive Director of the U.S. National Commission for UNESCO, Washington, DC 20037. Telephone: (202) 663-0026; Fax: (202) 663-0035; E-mail: DCUNESCO@state.gov.

Dated: April 11, 2006.
Alex Zemek,
Deputy Executive Secretary, U.S. National Commission for UNESCO, Department of State.

[FR Doc. E6-5661 Filed 4-14-06; 8:45 am]

BILLING CODE 4710-19-P